ENVIRONMENTAL PROTECTION AGENCY

[FRL—8004-6]

Science Advisory Board Staff Office Cancellation of Public Teleconference of the Science Advisory Board Arsenic Review Panel

AGENCY: Environmental Protection Agency (EPA).

ACTION: Notice.

SUMMARY: The Environmental Protection Agency (EPA), Science Advisory Board (SAB) Staff Office is canceling a public teleconference meeting of the SAB's Arsenic Review Panel announced earlier (70 FR 69340, November 15, 2005).

DATES: December 5, 2005. The public conference call from 2 p.m. to 4:30 p.m. Eastern Time has been cancelled. A future notice in the Federal Register will announce the new date and time for the Arsenic Review Panel's next meeting.

Dated: November 29, 2005.
Anthony F. Maciorowski,
Associate Director for Science, EPA Science Advisory Board Staff Office.

[FR Doc. 05-23558 Filed 11-30-05; 8:45 am]

BILLING CODE 6560-50-P